DEPARTMENT OF HEALTH AND HUMAN SERVICES

Centers for Disease Control and Prevention

[60-Day-12-0696]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National HIV Prevention Program Monitoring and Evaluation (NHM&E) (OMB 0920-0696, Expiration 08/31/2013)—Revision—National Center for HIV/AIDS, Viral Hepatitis, STD, and TB Prevention (NCHHSTP), Centers for Disease Control and Prevention (CDC).

Background and Brief Description

CDC is requesting a 3-year approval for revision to the previously approved project.

The purpose of this revision is to continue collecting standardized HIV prevention program evaluation data from health departments and community-based organizations (CBOs) who receive federal funds for HIV prevention activities. Grantees have the option of key-entering or uploading data to a CDC-provided Web-based software application (EvaluationWeb®).

The following changes have occurred since project 0920-0696 has been implemented: (1) The previous reporting system (PEMS) has been replaced by a more efficient reporting software. (2) Many data variables that were previously required or optional but reported have been deleted in order to reduce data reporting burden on grantees. Other variables have been added or modified to adapt to changes in HIV prevention and the National HIV/AIDS Strategic Plan. (3) Reporting has been changed from quarterly to semiannual. (4) The number of grantees has changed as new FOAs were awarded.

The evaluation and reporting process is necessary to ensure that CDC receives standardized, accurate, thorough evaluation data from both health department and CBO grantees. For these reasons, CDC developed standardized NHM&E variables through extensive consultation with representatives from health departments, CBOs, and national partners (e.g., The National Alliance of State and Territorial AIDS Directors, Urban Coalition of HIV/AIDS Prevention Services, and National Minority AIDS Council).

CDC requires CBOs and health departments who receive federal funds for HIV prevention to report non-identifying, client-level and aggregate-level, standardized evaluation data to: (1) Accurately determine the extent to which HIV prevention efforts are carried out, what types of agencies are providing services, what resources are allocated to those services, to whom services are being provided, and how these efforts have contributed to a reduction in HIV transmission; (2) improve ease of reporting to better meet these data needs; and (3) be accountable to stakeholders by informing them of HIV prevention activities and use of funds in HIV prevention nationwide.

CDC HIV prevention program grantees will collect, enter or upload, and report agency-identifying information, budget data, intervention information, and client demographics and behavioral risk characteristics with an estimate of 200,846 burden hours. Data collection will include searching existing data sources, gathering and maintaining data, document compilation, review of data, and data entry or upload into the Web-based system.

There are no additional costs to respondents other than their time.

Estimated Annualized Burden Hours
Type of respondents | Form name | Number of respondents | Number of responses per respondent | Average burden per response (in hours) | Total burden hours
Health jurisdictions | Agency Data | 69 | 2 | 9 | 1,242
Health jurisdictions | HE/RR Data | 69 | 2 | 67 | 9,246
Health jurisdictions | HIV Testing Data | 69 | 2 | 1,229 | 169,602
Health jurisdictions | Partner Services Data | 69 | 2 | 52 | 7,176
Health jurisdictions | NHM&E Data Training | 69 | 2 | 20 | 2,760
Community-Based Organizations | Agency Data | 200 | 2 | 30/60 | 200
Community-Based Organizations | HE/RR Data | 200 | 2 | 20 | 8,000
Community-Based Organizations | NHM&E Data Training | 200 | 2 | 20 | 8,000
Total |  |  |  |  | 206,226

Dated: August 16, 2012.
Ron A. Otten,
Director, Office of Scientific Integrity (OSI), Office of the Associate Director for Science (OADS), Office of the Director, Centers for Disease Control and Prevention.

[FR Doc. 2012-20681 Filed 8-21-12; 8:45 am]

BILLING CODE 4163-18-P